DEPARTMENT OF HEALTH AND HUMAN SERVICES

Centers for Disease Control and Prevention

[Program Announcement 01053]

An Assessment of Respiratory Health Effects From Exposure to Traffic Particulate Emissions at a U.S.-Canada Border Crossing in Western New York; Notice of Availability of Funds

A. Purpose

The Centers for Disease Control and Prevention (CDC) announces the availability of fiscal year (FY) 2001 funds for a grant project for the Buffalo General Foundation for a project examining the impact of air pollution on asthma rates and respiratory illness. This project addresses the “Healthy People 2010” focus areas of Environmental Health and Respiratory Diseases.

B. Eligible Applicant

Assistance will be provided only to the Buffalo General Foundation. No other applications are solicited.

Eligibility is limited to the Buffalo General Foundation because fiscal year 2001 Federal appropriations specifically directs CDC to award this foundation funds to assess the impact of air pollution on asthma rates and respiratory illness.

Note: Title 2 of the United States Code, Chapter 26, section 1611 states that an organization described in section 501(c)(4) of the Internal Revenue Code of 1986 that engages in lobbying activities is not eligible to receive Federal funds constituting an award, grant, cooperative agreement, contract, loan, or any other form.

C. Availability of Funds

Approximately $200,676 is available in FY 2001 to support this project. It is expected that the award will begin on or about September 1, 2001, and will be made for a 12-month budget period within a one year project period. Funding estimates may change.

D. Where To Obtain Additional Information

To obtain business management technical assistance contact: Michael Smiley, Grants Management Specialist, Grants Management Branch, Procurement and Grants Office, Centers for Disease Control and Prevention (CDC), 2920 Brandywine Road, Room 3000, MS-E13, Atlanta, GA 30341-4146, Telephone: (770) 488-2694, Email address: znr6@cdc.gov.

For program technical assistance, contact: Liane Hostler, Air Pollution and Respiratory Health Branch, Division of Environmental Hazards and Health Effects, National Center for Environmental Health, Centers for Disease Control and Prevention, 1600 Clifton Road, N.E., MS-E17 Atlanta, GA 30333, Telephone: (404) 639-2503, Email address: lch2@cdc.gov.

Dated: May 25, 2001.
Henry S. Cassell, III,
Director, Procurement and Grants Office, Centers for Disease Control and Prevention (CDC).

[FR Doc. 01-13736 Filed 5-31-01; 8:45 am]

BILLING CODE 4163-18-P